DEPARTMENT OF STATE

[Public Notice 10661]

60-Day Notice of Proposed Information Collection: National Security Language Initiative for Youth Evaluation

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 1, 2019.

ADDRESSES: You may submit comments by the following method:

• Web: Persons with access to the internet may comment on this notice by going to www.Regulations.gov. You can search for the document by entering “Docket Number: DOS-2019-0001” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, may be sent to Natalie Donahue, Chief of Evaluation, Bureau of Educational and Cultural Affairs, [insert mailing address here], who may be reached at (202) 632-6193 or DonahueNR@state.gov.

SUPPLEMENTARY INFORMATION:

• Title of Information Collection: NSLI-Y Evaluation.

• OMB Control Number: None.

• Type of Request: New collection.

• Originating Office: Educational and Cultural Affairs (ECA/P/V).

• Form Number: No form.

• Respondents: NSLI-Y program alumni, their parents, local program coordinators or resident directors, and a small sample of U.S. high school teachers and administrators.

• Estimated Number of Alumni Survey Respondents: 5,390.

• Estimated Number of Alumni Survey Responses: 1,797.

• Average Time per Alumni Survey: 11.3 minutes.

• Total Estimated Alumni Survey Burden Time: 338.4 hours.

• Estimated Number of Parent Survey Respondents: 10,780.

• Estimated Number of Parent Survey Responses: 701.

• Average Time per Parent Survey: 8.6 minutes.

• Total Estimated Parent Survey Burden Time: 100.5 hours.

• Estimated Number of Alumni Focus Group Participants: 135.

• Average Time per Alumni Focus Group: 1.5 hours.

• Total Estimated Alumni Focus Group Burden Time: 202.5 hours.

• Estimated Number of Parent Focus Group Participants: 108.

• Average Time per Parent Focus Group: 1.5 hours.

• Total Estimated Parent Focus Group Burden Time: 162 hours.

• Estimated Number of Local Coordinator/Resident Director Key Informant Interviews: 35.

• Average Time per Local Coordinator/Resident Director Key Informant: 60 minutes.

• Total Estimated Local Coordinator/Resident Director Key Informant Burden Time: 35 hours.

• Estimated Number of High School Teacher/Administrator Key Informant Interviews: 25.

• Average Time per High School Teacher/Administrator Key Informant: 35 minutes.

• Total Estimated High School Teacher/Administrator Key Informant Burden Time: 14.6 hours.

• Total Estimated Burden Time: 853 annual hours.

• Frequency: Once

• Obligation to Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The National Security Language Initiative for Youth (NSLI-Y) is a scholarship program to enable American students aged 15-18 to study less commonly taught languages (Arabic, Chinese, Hindi, Indonesian, Korean, Persian, Russian, and Turkish) in summer or academic-year long programs in a variety of countries. In addition to increased language proficiency, participants gain understanding of their host country and its culture. This program is funded pursuant to the Mutual Educational and Cultural Exchanges Act of 1961 (22 U.S.C. 2451-2464).

In order to assess the efficacy and impact of NSLI-Y, the U.S. Department of State's Bureau of Educational and Cultural Affairs (ECA) intends to conduct an evaluation of the program, which will include collection of data from program alumni between 2008 and 2017, their parents, a small sample of U.S. high school teachers and administrators, and local program coordinators and resident directors. As the NSLI-Y program has been run for more than 10 years, ECA is conducting this evaluation to determine the extent to which the program is achieving its long-term goals. In order to do so, ECA has contracted Dexis Consulting Group to conduct surveys and focus groups with alumni and their parents and in-depth interviews with local program coordinators/resident directors and the sample of U.S. high school teachers and administrators.

Methodology

As baseline information is limited to the participants' language proficiency tests, it is necessary to collection information directly from program alumni to assess the impact of the NSLI-Y experience beyond language proficiency. As one source of information is potentially biased and limited, additional perspectives will be sought from their parents, who in most cases will have observed any changes in their children after program participation. As some information is easily collected via survey, both of these groups will receive online surveys, but a small number will also be invited to participate in focus groups in 6 cities to be selected (based on where the greatest concentrations of alumni currently reside) to explore key issues in greater depth. Local program coordinators/resident directors will also have identified changes in students over the period of their participation, and therefore, we propose to conduct individual interviews with them. Finally, the Department wishes to understand better the challenges for students in applying for and accepting scholarships, particularly related to participants' ability to obtain high school credit for their academic experience overseas. As these individuals' perspectives and state and district regulations may differ and to minimize the burden on these respondents, individual interviews will be conducted.

Aleisha Woodward,
Deputy Assistant Secretary for Policy, Bureau of Educational and Cultural Affairs, Department of State.

[FR Doc. 2019-08801 Filed 4-30-19; 8:45 am]

BILLING CODE 4710-05-P